DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting is open to the public. The meeting topics are identified in the SUPPLEMENTARY INFORMATION section.

DATES: The ANS Task Force will meet from 8 a.m. to 5 p.m. on Wednesday, May 24 and Thursday, May 25, and from 8 a.m. to 12 p.m. on Friday, May 26, 2006.

ADDRESSES: The ANS Task Force meeting will be held at the Cape Codder Resort, 1225 Iyanough Road (Route 132 & Bearse's Way), Hyannis, MA 02601; (888) 297-2200. Minutes of the meeting will be maintained by the Chief, Division of Environmental Quality, U.S. Fish and Wildlife Service, Suite 322, 4401 North Fairfax Drive, Arlington, Virginia 22203, and will be made available for public inspection during regular business hours, Monday through Friday.

FOR FURTHER INFORMATION CONTACT: Scott Newsham, ANS Task Force Executive Secretary, at (703) 358-1796, or by e-mail at Scott_Newsham@fws.gov.

SUPPLEMENTARY INFORMATION: Pursuant to section 10(a)(2) of the Federal Advisory Committee Act (5 U.S.C. App.), this notice announces meetings of the ANS Task Force. The ANS Task Force was established by the Nonindigenous Aquatic Nuisance Prevention and Control Act of 1990.

Topics to be covered during the ANS Task Force meeting include: Committee and Regional Panel reports, ANS priorities of the Northeastern states, development of the Asian Carp Management Plan, allocation of state ANS management plan funds, and consideration for approval of Louisiana's state management plan for aquatic invasive species. The agenda and other related meeting information can be viewed on the ANS Task Force Web site at: http://anstaskforce.gov/meetings.php.

Dated: March 29, 2006.
Mamie A. Parker,
Co-Chair, Aquatic Nuisance Species Task Force, Assistant Director—Fisheries & Habitat Conservation.

[FR Doc. E6-5881 Filed 4-18-06; 8:45 am]

BILLING CODE 4310-55-P